FEDERAL COMMUNICATIONS COMMISSION

47 CFR Part 25

[IB Docket 99-81; FCC 00-302]

Policies and Service Rules for the Mobile Satellite Service in the 2 GHz Band

AGENCY: Federal Communications Commission.

ACTION: Final rule.

SUMMARY: The Federal Communications Commission has adopted licensing and service rules for entities to provide Mobile Satellite Service in the 2 GHz Band, specifically the 1990-2025 MHz and 2165-2200 MHz frequency bands. System proponents currently on file are required to amend their proposals to comply with the adopted rules. Following a public comment period, qualified systems will be authorized to operate. Upon launch, these new systems will provide mobile voice, data, Internet and other services to U.S. consumers for communications in the United States and around the world.

DATES: Effective November 3, 2000.

ADDRESSES: Federal Communications Commission, 445 12th Street, SW., TW-325, Washington, DC 20554.

FOR FURTHER INFORMATION CONTACT: For more information regarding the Report and Order contact Howard Griboff (202) 418-0657 of the International Bureau. For more information regarding the information collections in the Report and Order, contact Judy Boley at 202-418-0214; 445 12th Street SW., Rm. 1-C804, Washington DC 20554 or via internet at jboley@fcc.gov.

SUPPLEMENTARY INFORMATION: This is a summary of the Commission's Report and Order in IB Docket No. 99-81; FCC 00-302, adopted August 14, 2000 and released on August 25, 2000. The complete text of this Report and Order is available for inspection and copying during normal business hours in the FCC Reference Center (Room), 445 12th Street, SW., Washington, DC 20554, and also may be purchased from the Commission's copy contractor, International Transcription Service, Inc. (ITS, Inc.), 1231 20th Street, NW., Washington, DC 20036, (202) 857-3800.

Summary of Report and Order

The Federal Communications Commission has adopted rules for the 2 GHz (1990-2025MHz/2165-2200 MHz) mobile satellite services (MSS). These systems will provide mobile voice, data, Internet and other services to U.S. consumers for communications in the United States and around the world. The systems under consideration include geostationary and non-geostationary orbit systems.

The Commission adopted an innovative band arrangement that can accommodate the multiple and technically-diverse systems that have requested authorization and described the method to be used for licensing. Pursuant to the Commission's new rules, each authorized system will receive an equal share of the available frequencies. A licensee will select the specific frequencies in which its primary service operations will take place at the time it has launched one satellite into its intended orbit. In addition, because there are a number of incumbent terrestrial services (e.g., broadcast auxiliary service and and fixed microwave service) in the 2 GHz MSS bands, each authorized system will have flexibility to operate at other frequencies in the band. This flexibility may lower the costs of relocating incumbent systems and facilitate quicker deployment of service. To encourage delivery of mobile satellite services to rural service areas, the Commission reserved an additional spectrum segment to be awarded in equal shares to systems demonstrating that a percentage of their capacity is contracted with service providers that offer service to consumers in rural and unserved service areas.

The Commission found that it was not necessary to apply financial qualification requirements to the applicants because there is sufficient spectrum to accommodate all of the proposed systems. 2 GHz MSS licenses will be for a fifteen-year period. Consistent with its past spectrum management policies, the Commission is requiring that system proponents enter non-contingent satellite manufacturing contracts within one year of authorization and launch of authorized 2 GHz MSS systems no later than six years from the date of authorization. System proponents will have to complete critical design review (CDR) within two years of authorization. The rules require that physical construction of all satellites in the system commence within two and a half years of authorization (non-geostationary systems) and three years of authorization (geostationary systems). Construction and launch of the first two satellites must be complete within three and a half years of grant for non-geostationary systems and five years for geostationary systems. Non-compliance with implementation milestones will result in cancellation of the authorization. Failure to file a timely certification of milestone compliance, or filing disclosure of non-compliance, will result in automatic cancellation of an operator's system authorization with no further action required on the Commission's part.

In addition, the new rules require disclosure, prior to authorization, of orbital debris mitigation measures for 2 GHz MSS systems. The Commission also addressed provision of distress and safety communications and 911 services, and stated that it would study this issue in greater detail in the pending Global Mobile Personal Communications by Satellite proceeding.

The system proponents are required to amend their proposals to comply with the rules adopted on or before November 3, 2000. Following a public comment period, qualified systems will be authorized to operate.

Final Regulatory Flexibility Analysis

A. Need for, and Objectives of, This Report and Order

This Report and Order establishes a spectrum authorization approach to accommodate all proposed 2 GHz MSS systems, and service rules to govern the 2 GHz MSS systems. These actions are designed to assign the 2 GHz MSS spectrum to applicants, or reserve the 2 GHz MSS spectrum in the case of letter of intent filers, in an efficient manner. At the same time, these rules are designed to ensure systems implement their proposals in a manner that serves the public interest and results in the continued deployment of mobile satellite services to the public, with minimal disruption to existing 2 GHz band permittees and licensees.

B. Summary of Significant Issues Raised in Comments in Response to the IRFA

There were no comments which solely discussed or addressed the IRFA. The Commission has nonetheless considered any potential significant economic impact of the rules on small entities, and has designed its rules to reduce regulatory burdens on these entities accordingly.

C. Description and Estimate of Number of Small Entities to Which Rules Will Apply

The Commission has not developed a definition of small entities applicable to geostationary or non-geostationary orbit fixed-satellite or mobile satellite service operators. Therefore, the applicable definition of small entity is the definition under the Small Business Administration (SBA) rules applicable to Communications Services, Not Elsewhere Classified. This definition provides that a small entity is one with $11.0 million or less in annual receipts. 13 CFR 121.201, Standard Industrial Classification (SIC) Code 4899. According to Census Bureau data, there are 848 firms that fall under the category of Communications Services, Not Elsewhere Classified, which could potentially fall into the 2 GHz MSS category. Of those, approximately 775 reported annual receipts of $11 million or less and qualify as small entities. U.S. Bureau of Census, U.S. Department of Commerce, 1992 Census of Transportation, Communications, Utilities, UC92-S-1, Subject Series, Establishment and Firm Size, Table 2D, Employment Size of Firms: 1992, SIC Code 4899 (issued May 1995). The rules adopted in this Report and Order apply only to entities providing 2 GHz mobile satellite service. At least one of the 2 GHz MSS system proponents may be considered a small business at this time. Small businesses often do not have the financial ability to become 2 GHz MSS system operators because of the high implementation costs associated with satellite systems and services. By the time of system implementation, we expect that the one small entity will no longer be considered a small business due to the capital requirements for launching and operating its proposed system. Therefore, because of the high implementation costs of providing 2 GHz MSS, we believe that this Report and Order will have no significant impact on small entities.

D. Description of Projected Reporting, Recordkeeping, and Other Compliance Requirements

The rules adopted in the Report and Order affect those entities applying for 2 GHz MSS space station and earth station authorizations and those participating in assignment of 2 GHz MSS spectrum. As an initial matter, the nine 2 GHz MSS system proponents under consideration in this Report and Order are required to submit amendments to their previously-filed applications or letters of intent, to conform their proposed systems to the spectrum authorization and service rules adopted herein, including an orbital debris statement. The adopted rules also require each authorized 2 GHz MSS system to notify the Commission that it has met construction milestones, notify the Commission as to which spectrum block it chooses as its preferred spectrum block at the time that the first satellite in its system reaches its intended orbit, and, if it desires additional spectrum under the rural service initiative, notify the Commission of how it has achieved the required rural service criteria. Once operational, the 2 GHz MSS systems may need to coordinate with each other the use of spectrum outside of its preferred spectrum block. These negotiations are likely to require the skills of engineers to evaluate the technical requirements of co-frequency spectrum sharing and/or adjacent frequency operation on a non-interference basis.

E. Steps Taken To Minimize Significant Economic Impact on Small Entities and Significant Alternatives Considered

In developing the rules and policies adopted in this Report and Order, the Commission has attempted to minimize the burdens on all entities in order to allow maximum participation in the 2 GHz MSS market, while achieving the item's other objectives. The Commission considered band arrangements that would have assigned specified blocks of spectrum based on modulation technology (i.e., code division multiple access or time division multiple access). Similarly, the Commission considered Globalstar's suggested band arrangement that would have required all systems to pre-negotiate a sharing architecture. The Commission rejected these alternatives, in part because these alternatives would have required all 2 GHz MSS operators to choose their technological parameters immediately, rather than allowing systems to optimize designs in order to promote innovation and reduce the economic impact of system build-out. In addition, to reduce the 2 GHz MSS operators' incumbent relocation costs, the Commission will exempt any 2 GHz MSS operator from relocation obligations if it is capable of sharing spectrum on a non-interference basis with the existing incumbent operations.

Paperwork Reduction Act

This Report and Order contains a new or modified information collection. The Federal Communications Commission, as part of its continuing effort to reduce paperwork burden invites the general public and other Federal agencies to take this opportunity to comment on the following information collection, as required by the Paperwork Reduction Act of 1995, Public Law 104-13. Comments on emergency request for approval of information collections are due on or before October 25, 2000; public and agency comments on the regular request for approval of the information collections are due on or before December 4, 2000.

Comments should address: (a) Whether the proposed collection of information is necessary for the proper performance of the functions of the Commission, including whether the information shall have practical utility; (b) the accuracy of the Commission's burden estimate; (c) ways to enhance the quality, utility, and clarify of the information collected; and (d) ways to minimize the burden of the collection of information on the respondents, including the use of automated collection techniques or other forms of information technology. These comments on both regular and emergency requests for approval of the information collection should be submitted to Judy Boley at 445 12th Street S.W., Rm. 1-C804, Washington DC 20554 or via internet at jboley@fcc.gov; phone 202-418-0214. In addition, comments on the emergency request for approval of the information collections should be submitted to Edward C. Springer, OMB Desk Officer, Rm. 10236 NEOB, 725 17th Street, NW., Washington, DC 20503, or via the Internet to Edward.Springer@omb.eop.gov.

OMB Approval Number: 3060-XXXX.

Title: 2 GHz Mobile Satellite Service Reports.

Form No.: NA.

Type of Collection: New Collection.

Respondents: Business or other for-profit.

Number of Respondents: 9.

Estimated Time for Response: 3 hours.

Total Annual Burden: 27 hours.

Estimated Annual Reporting and Recordkeeping Cost Burden: $14,000.

Needs and Uses: The information will be used by the Federal Communications Commission (FCC) and interested members of the public to ensure compliance with the rules adopted for the 2 GHz mobile satellite service. Specifically, the rules require disclosure in the form of a narrative statement, through amendments to applications or letters of intent, of orbital debris mitigation design and operational strategies and a casualty risk assessment if planned post-mission disposal involves atmospheric re-entry of spacecraft. This requirement will permit the Commission and the public to comment on each system's design. 2 GHz mobile satellite systems receiving expansion spectrum as part of the rural and unserved areas spectrum incentive must provide a report on the actual number of subscriber minutes originating or terminating in unserved areas as a percentage of the actual U.S. system use. This rule will permit the Commission to verify that service is being provided in rural and unserved areas. In addition, system proponents will have to complete critical design review (CDR) within two years of authorization. CDR is a new milestone for satellite services and will permit the Commission to more closely monitor system construction. Without such information, the FCC could not determine whether satellite licenses are operating in conformance with its rules.

Ordering Clauses

Pursuant to Sections 4(i), 7, 302, 303(c), 303(e), 303(f) and 303(r) of the Communications Act of 1934, as amended, 47 U.S.C. Section 154(i), 157, 302, 303(c), 303(e), 303(f) and 303(r), this Report and Order Is Adopted and that part 25 of the Commission's Rules Is Amended and is effective November 3, 2000.

The applicants and LOI filers will be required to file conforming amendments and all necessary fees no later than November 3, 2000 for continued consideration in this processing round.

The Regulatory Flexibility Analysis, as required by Section 604 of the Regulatory Flexibility Act, Is Adopted.

The Commission's Consumer Information Bureau, Reference Information Center, Shall Send a copy of this Report and Order, including the Final Regulatory Flexibility Analysis, to the Chief Counsel for Advocacy of the Small Business Administration.

List of Subjects in 47 CFR Part 25

Satellites.

Federal Communications Commission.
Magalie Roman Salas,
Secretary.

Rule Changes

For the reasons discussed in the preamble, the Federal Communications Commission amends 47 CFR part 25 as follows:

1. The authority citation for part 25 is revised to read as follows:

Authority: 47 U.S.C. 701-744. Interprets or applies Sections 4, 301, 302, 303, 307, 309 and 332 of the Communications Act, as amended, 47 U.S.C. Sections 154, 301, 302, 303, 307, 309 and 332, unless otherwise noted.

2. Section 25.114 is amended by revising paragraphs (c)(6)(iii) and (c)(21) to read as follows:

§ 25.114 Applications for space station authorizations.

* * * * *

(c) * * *

(6) * * *

(iii) If applicable, the feeder link and inter-satellite service frequencies requested for the satellite, together with any demonstration otherwise required by this chapter for use of those frequencies (see, e.g., §§ 25.203(j) and (k));

* * * * *

(21) Applications for authorizations in the 1.6/2.4 GHz Mobile-Satellite Service or 2 GHz Mobile-Satellite Service shall also provide all information specified in § 25.143.

* * * * *

3. Section 25.115 is amended by revising paragraph (d) to read as follows:

§ 25.115 Application for earth station authorizations.

* * * * *

(d) User transceivers in the NVNG, 1.6/2.4 GHz Mobile-Satellite Service, and 2 GHz Mobile-Satellite Service need not be individually licensed. Service vendors may file blanket applications for transceivers units using FCC Form 312, Main Form and Schedule B, and specifying the number of units to be covered by the blanket license. Each application for a blanket license under this section shall include the information described in § 25.136.

* * * * *

4. Section 25.121 is amended by revising paragraph (a) to read as follows:

§ 25.121 License term and renewals.

(a) License term. Licenses for facilities governed by this part will be issued for a period of 10 years, except that licenses and authorizations in the 2 GHz Mobile-Satellite Service will be issued for a period of 15 years.

* * * * *

5. Section 25.133 is amended by revising paragraph (b) to read as follows:

§ 25.133 Period of construction; certification of commencement of operation.

* * * * *

(b) Each license for a transmitting earth station included in this part shall also specify as a condition therein that upon the completion of construction, each licensee must file with the Commission a certification containing the following information: The name of the licensee; file number of the application; call sign of the antenna; date of the license; a certification that the facility as authorized has been completed and that each antenna facility has been tested and is within 2 dB of the pattern specified in §§ 25.209, 25.135 (NVNG MSS earth stations), or § 25.213 (1.6/2.4 GHz Mobile-Satellite Service and 2 GHz Mobile-Satellite Service earth stations); the date on which the station became operational; and a statement that the station will remain operational during the license period unless the license is submitted for cancellation. For stations authorized under § 25.115(c) (Large Networks of Small Antennas operating in the 12/14 GHz bands) and § 25.115(d) (User Transceivers in the Mobile-Satellite Service), a certificate must be filed when the network is put into operation.

* * * * *

6. Section 25.136 is revised to read as follows:

§ 25.136 Operating provisions for earth station networks in the 1.6/2.4 GHz mobile-satellite service and 2 GHz mobile-satellite service.

In addition to the technical requirements specified in § 25.213, earth stations operating in the 1.6/2.4 GHz Mobile-Satellite Service or 2 GHz Mobile-Satellite Service are subject to the following operating conditions:

(a) User transceiver units associated with the 1.6/2.4 GHz Mobile-Satellite Service or 2 GHz Mobile-Satellite Service may not be operated on civil aircraft unless the earth station has a direct physical connection to the aircraft Cabin Communication system.

(b) No person shall transmit to a space station unless the user transceiver is first authorized by the space station operator or by a service vendor authorized by that operator, and the specific transmission is conducted in accordance with the operating protocol specified by the system operator.

(c) Any user transceiver unit associated with this service will be deemed, when communicating with a particular 1.6/2.4 GHz Mobile-Satellite Service or 2 GHz Mobile-Satellite Service system pursuant to paragraph (b) of this section, to be temporarily associated with and licensed to the system operator or service vendor holding the blanket earth station license awarded pursuant to § 25.115(d). The domestic earth station licensee shall, for this temporary period, assume the same licensee responsibility for the user transceiver as if the user transceiver were regularly licensed to it.

7. Section 25.137 is amended by adding paragraph (d) to read as follows:

§ 25.137 Application requirements for earth stations operating with non-U.S. licensed space stations.

* * * * *

(d) Earth station applicants requesting authority to operate with a non-U.S. licensed space station must demonstrate that the space station the applicant seeks to access has complied with all applicable Commission milestones, reporting requirements, and any other applicable service rules required for non-U.S. licensed systems to operate in the United States.

8. Section 25.143 is amended by revising paragraphs (a), (b)(1), (b)(2), (e)(1), (e)(1)(iii), and (f)(1), and by adding paragraph (e)(3) to read as follows:

§ 25.143 Licensing provisions for the 1.6/2.4 GHz mobile-satellite service and 2 GHz mobile-satellite service.

(a) System license. Applicants authorized to construct and launch a system of technically identical satellites will be awarded a single “blanket” license. In the case of non-geostationary satellites, the blanket license will cover a specified number of space stations to operate in a specified number of orbital planes. In the case of geostationary satellites, as part of a geostationary-only satellite system or a geostationary/non-geostationary hybrid satellite system, an individual license will be issued for each satellite to be located at a geostationary orbital location.

* * * * *

(b) * * *

(1) General requirements. Each application for a space station system authorization in the 1.6/2.4 GHz Mobile-Satellite Service or 2 GHz Mobile-Satellite Service shall describe in detail the proposed satellite system, setting forth all pertinent technical and operational aspects of the system, and the technical, legal, and financial qualifications of the applicant. In particular, each application shall include the information specified in § 25.114. Non-U.S. licensed systems shall comply with the provisions of § 25.137. System proponents seeking authorization in the 2 GHz Mobile-Satellite Service also shall describe the design and operational strategies that they will use, if any, to mitigate orbital debris. Applicants must submit a casualty risk assessment if planned post-mission disposal involves atmospheric re-entry of the spacecraft.

(2) Technical qualifications. In addition to providing the information specified in paragraph (b)(1) of this section, each applicant and letter of intent filer shall demonstrate the following:

(i) That a proposed system in the 1.6/2.4 GHz MSS frequency bands employs a non-geostationary constellation or constellations of satellites;

(ii) That a system proposed to operate using non-geostationary satellites be capable of providing mobile satellite services to all locations as far north as 70 deg. North latitude and as far south as 55 deg. South latitude for at least 75% of every 24-hour period, i.e., that at least one satellite will be visible above the horizon at an elevation angle of at least 5 deg. for at least 18 hours each day within the described geographic area;

(iii) That a system proposed to operate using non-geostationary satellites be capable of providing mobile satellite services on a continuous basis throughout the fifty states, Puerto Rico and the U.S. Virgin Islands, i.e., that at least one satellite will be visible above the horizon at an elevation angle of at least 5 deg. at all times within the described geographic areas; and

(iv) That a system only using geostationary orbit satellites, at a minimum, be capable of providing mobile satellite services on a continuous basis throughout the 50 states, Puerto Rico, and the U.S. Virgin Islands, if technically feasible.

(v) That operations will not cause unacceptable interference to other authorized users of the spectrum. In particular, each application in the 1.6/2.4 GHz frequency bands shall demonstrate that the space station(s) comply with the requirements specified in § 25.213.

* * * * *

(e) * * *

(1) All operators of 1.6/2.4 GHz Mobile-Satellite Service systems and 2 GHz Mobile-Satellite Service systems shall, on October 15 of each year, file with the International Bureau and the Commission's Columbia Operations Center, Columbia, Maryland, a report containing the following information current as of September 30 of that year:

* * * * *

(iii) A detailed description of the utilization made of the in-orbit satellite system. That description should identify the percentage of time that the system is actually used for U.S. domestic or transborder transmission, the amount of capacity (if any) sold but not in service within U.S. territorial geographic areas, and the amount of unused system capacity. 2 GHz Mobile Satellite systems receiving expansion spectrum as part of the unserved areas spectrum incentive must provide a report on the actual number of subscriber minutes originating or terminating in unserved areas as a percentage of the actual U.S. system use; and

* * * * *

(3) All operators of 2 GHz Mobile-Satellite Service systems must begin system construction upon award of a service link license to U.S.-based applicants, or upon designation of spectrum for non-U.S.-based systems, in accordance with milestones set forth in the respective system's authorization. All operators of 2 GHz Mobile-Satellite Service systems shall, within 10 days after a required implementation milestone as specified in the system authorization, certify to the Commission by affidavit that the milestone has been met or notify the Commission by letter that it has not been met. At its discretion, the Commission may require the submission of additional information (supported by affidavit of a person or persons with knowledge thereof) to demonstrate that the milestone has been met. Failure to file timely certification of milestones, or filing disclosure of non-compliance, will result in automatic cancellation of the authorization with no further action required on the Commission's part.

* * * * *

(f) * * *

(1) Stations operating in the 1.6/2.4 GHz Mobile-Satellite Service and 2 GHz Mobile-Satellite Service that are voluntarily installed on a U.S. ship or are used to comply with any statute or regulatory equipment carriage requirements may also be subject to the requirements of sections 321(b) and 359 of the Communications Act of 1934. Licensees are advised that these provisions give priority to radio communications or signals relating to ships in distress and prohibits a charge for the transmission of maritime distress calls and related traffic.

* * * * *

9. Section 25.201 is amended by adding the following definition in alphabetical order to read as follows:

§ 25. 201 Definitions.

* * * * *

2 GHz Mobile-Satellite Service. A mobile-satellite service that operates in the 1990-2025 MHz and 2165-2200 MHz frequency bands, or in any portion thereof.

* * * * *

10. Section 25.202 is amended by revising paragraph (a)(4) to read as follows:

§ 25. 202 Frequencies, frequency tolerance and emission limitations.

(a) * * *

(4)(i) The following frequencies are available for use by the 1.6/2.4 GHz Mobile-Satellite Service:

1610-1626.5 MHz: User-to-Satellite Link

1613.8-1626.5 MHz: Satellite-to-User Link (secondary)

2483.5-2500 MHz: Satellite-to-User Link

(ii) The following frequencies are available for use by the 2 GHz Mobile-Satellite Service:

1990-2025 MHz: User-to-Satellite Link

2165-2200 MHz: Satellite-to-User Link

* * * * *

11. Section 25.203 is amended by revising paragraph (c) introductory text to read as follows:

§ 25.203 Choice of sites and frequencies.

* * * * *

(c) Prior to the filing of an application, an earth station applicant shall coordinate the proposed frequency usage with existing terrestrial users and with applicants for terrestrial station authorizations with previously filed applications in accordance with the following procedure:

* * * * *

12. Section 25.279 is amended by revising paragraph (a) to read as follows:

§ 25.279 Inter-satellite service.

(a) Any satellite communicating with other space stations may use frequencies in the inter-satellite service as indicated in § 2.106 of this chapter. This does not preclude the use of other frequencies for such purposes as provided for in several service definitions, e.g., FSS. The technical details of the proposed inter-satellite link shall be provided in accordance with § 25.114(c).

* * * * *

[FR Doc. 00-25388 Filed 10-3-00; 8:45 am]

BILLING CODE 6712-01-P